DEPARTMENT OF TRANSPORTATION

Surface Transportation Board

[STB Finance Docket No. 34115]

Tecumseh Branch Connecting Railroad Company—Acquisition and Operation Exemption—Norfolk Southern Railway Company

Tecumseh Branch Connecting Railroad Company (TBCR), a noncarrier, has filed a notice of exemption under 49 CFR 1150.31 to acquire from Norfolk Southern Railway Company and to operate approximately 2.1 miles of rail line (known as the Tecumseh Branch). The rail line is a portion of the former Detroit, Toledo & Ironton Railroad located in the City of Adrian and Township of Madison, Lenawee County, MI, and extends between milepost 44.2 in Madison Township and milepost 46.3 in Adrian. TBCR certifies that its projected revenues as a result of this transaction will not result in the creation of a Class II or Class I rail carrier, and that its projected annual revenues will not exceed $5 million.

The transaction was scheduled to be consummated on or after November 1, 2001.

If the notice contains false or misleading information, the exemption is void ab initio. Petitions to revoke the exemption under 49 U.S.C. 10502(d) may be filed at any time. The filing of a petition to revoke will not automatically stay the transaction.

An original and 10 copies of all pleadings, referring to STB Finance Docket No. 34115, must be filed with the Surface Transportation Board, Office of the Secretary, Case Control Unit, 1925 K Street, NW., Washington, DC 20423-0001. In addition, a copy of each pleading must be served on Kenneth J. Bisdorf, 2301 West Big Beaver Road, Suite 600, Troy, MI 48084-3329.

Board decisions and notices are available on our web site at www.stb.dot.gov.

Decided: November 8, 2001.
By the Board, David M. Konschnik, Director, Office of Proceedings.
Vernon A. Williams,
Secretary.

[FR Doc. 01-28659 Filed 11-16-01; 8:45 am]

BILLING CODE 4915-00-P